DEPARTMENT OF HEALTH AND HUMAN SERVICES

National Institutes of Health

Government-Owned Inventions; Availability for Licensing

AGENCY: National Institutes of Health, Department of Health and Human Services.

ACTION: Notice.

SUMMARY: The inventions listed below are owned by an agency of the U.S. Government and are available for licensing in the U.S. in accordance with 35 U.S.C. 209 and 37 CFR part 404 to achieve expeditious commercialization of results of federally-funded research and development.

FOR FURTHER INFORMATION CONTACT: Licensing information may be obtained by emailing the indicated licensing contact at the National Heart, Lung, and Blood, Office of Technology Transfer and Development Office of Technology Transfer, 31 Center Drive Room 4A29, MSC2479, Bethesda, MD 20892-2479; telephone: 301-402-5579. A signed Confidential Disclosure Agreement may be required to receive any unpublished information.

SUPPLEMENTARY INFORMATION: Technology description follows.

Alloreactive T Cell Depletion Method For Preventing Graft-Versus-Host Disease. The invention relates to the use of adenosine to deplete alloreactive T cells from donor grafts to prevent graft-versus-host disease (GVHD). The method includes culturing donor cells that include T cells with recipient antigen presenting cells (APCs) to form a mixture of cells. The recipient's APCs activate donor T cells. The activated T cells are treated with high doses of adenosine or an adenosine-like molecule to decrease or inhibit viability of the activated donor T-cells. The adenosine or adenosine-like molecule is filtered away from the mixture resulting in cells that can be transplanted into the recipient.

Potential Commercial Applications:

• Transplantation rejection prevention

• Graft-versus-Host disease

Development Stage:

• Early stage

Inventors: Dhanalakshmi Chinnasamy, John A. Barrett, Gregory D. Whitehill (NHLBI)

Intellectual Property: HHS Reference No. E-125-2015/0; U.S. Provisional Patent Application 62/153,174 filed April 27, 2015; International Patent Application PCT/US2016/029333 filed April 26, 2016.

Licensing Contact: Michael Shmilovich, Esq, CLP; 301-435-5019; shmilovm@mail.nih.gov.

Dated: April 29, 2016.
Michael Shmilovich,
Senior Licensing and Patenting Manager, National Heart, Lung, and Blood Institute, Office of Technology Transfer and Development.

[FR Doc. 2016-10595 Filed 5-5-16; 8:45 am]

BILLING CODE 4140-01-P